DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, Division of Injury Compensation Programs, 5600 Fishers Lane, Room 8W-25A, Rockville, Maryland 20857; 1-800-338-2382, or visit our website at: https://www.hrsa.gov/vaccine-compensation.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on April 1, 2025, through April 30, 2025. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Health Systems Bureau, 5600 Fishers Lane, 8W-25A, Rockville, Maryland 20857. The Court's caption (Petitioner's Name v. Secretary of HHS) and the docket number assigned to the petition should be used as the caption for the written submission. Chapter 35 of title 44, United States Code, related to paperwork reduction, does not apply to information required for purposes of carrying out the Program.

Thomas J. Engels,
Administrator.

List of Petitions Filed

1. Deante Monette, Madison, Wisconsin, Court of Federal Claims No: 25-0572V

2. Shalisha Hammond, Thornton, Colorado, Court of Federal Claims No: 25-0573V

3. Rheamyrl Jubelag Castillo, Round Rock, Texas, Court of Federal Claims No: 25-0575V

4. Belinda Lopez, Bronx, New York, Court of Federal Claims No: 25-0578V

5. Brenda Underwood, Knoxville, Tennessee, Court of Federal Claims No: 25-0580V

6. Ahmad Tawil, Austin, Texas, Court of Federal Claims No: 25-0581V

7. Jennifer Simons, Charleston, South Carolina, Court of Federal Claims No: 25-0585V

8. Nicholas Tolbert, Milwaukee, Wisconsin, Court of Federal Claims No: 25-0586V

9. Lorrie O'Brien, Farrell, Pennsylvania, Court of Federal Claims No: 25-0588V

10. Michael Thomas Pope, St. Louis, Missouri, Court of Federal Claims No: 25-0589V

11. Mark Andrew Poindexter II, Houston, Texas, Court of Federal Claims No: 25-0590V

12. Shara Sheldon, Woodland, California, Court of Federal Claims No: 25-0592V

13. Christie Rheault, Suffield, Connecticut, Court of Federal Claims No: 25-0593V

14. Kathryn McFarland, San Diego, California, Court of Federal Claims No: 25-0594V

15. William Venters, II, Vacaville, California, Court of Federal Claims No: 25-0596V

16. Melody Perkins, Clarksville, Indiana, Court of Federal Claims No: 25-0597V

17. Tracy Parish, Las Cruces, New Mexico, Court of Federal Claims No: 25-0600V

18. Kendall A. Schrader, Hinsdale, Illinois, Court of Federal Claims No: 25-0601V

19. Joanne Vitale, Greenfield, Wisconsin, Court of Federal Claims No: 25-0602V

20. Shanice Johnson on behalf of Estate of I. P., Deceased, Phoenix, Arizona, Court of Federal Claims No: 25-0604V

21. Tracie Nystuen, Everett, Washington, Court of Federal Claims No: 25-0605V

22. Mary Ann Wolf, Perrysburg, Ohio, Court of Federal Claims No: 25-0606V

23. Bruce Ray Lowe, Jefferson City, Missouri, Court of Federal Claims No: 25-0608V

24. Theresa Cassaboom, Wichita, Kansas, Court of Federal Claims No: 25-0610V

25. Darlene Jensen, Mesa, Arizona, Court of Federal Claims No: 25-0611V

26. Catherine Toledo-Narcisco, Las Vegas, Nevada, Court of Federal Claims No: 25-0613V

27. Amberlee Velasquez, Trinidad, Colorado, Court of Federal Claims No: 25-0616V

28. Deon Magnuson, Hermiston, Oregon, Court of Federal Claims No: 25-0617V

29. Pamela Johnson on behalf of Glen Johnson, Jr., Deceased, Louisville, Kentucky, Court of Federal Claims No: 25-0618V

30. Stacy Bennett, Vinita, Oklahoma, Court of Federal Claims No: 25-0622V

31. Robert Manley, Brockport, New York, Court of Federal Claims No: 25-0623V

32. Jonathan Henze, Naperville, Illinois, Court of Federal Claims No: 25-0625V

33. Nathan Echols, Wetumpka, Alabama, Court of Federal Claims No: 25-0626V

34. Jennifer Akers, Yankton, South Dakota, Court of Federal Claims No: 25-0627V

35. Daniel Brennan, Swarthmore, Pennsylvania, Court of Federal Claims No: 25-0628V

36. Cydnee Dozier, New York, New York, Court of Federal Claims No: 25-0630V

37. Mariam Sarkar, Bellevue, Washington, Court of Federal Claims No: 25-0631V

38. Christian Domingue, Hinsdale, New Hampshire, Court of Federal Claims No: 25-0632V

39. Manana Simonyan, Salt Lake City, Utah, Court of Federal Claims No: 25-0634V

40. Suzette Fazekas, Littleton, Colorado, Court of Federal Claims No: 25-0635V

41. Delores Michelle Hannan, Rockport, Maine, Court of Federal Claims No: 25-0636V

42. Sally Davidson, Eagle, Idaho, Court of Federal Claims No: 25-0644V

43. Joan Hoverman, Wichita, Kansas, Court of Federal Claims No: 25-0645V

44. Mary Palmisano, New Brunswick, New Jersey, Court of Federal Claims No: 25-0646V

45. Jessie Reeder, Newberry, South Carolina, Court of Federal Claims No: 25-0647V

46. Zakiyyah Muhammad, Stockbridge, Georgia, Court of Federal Claims No: 25-0652V

47. John Blauvelt, St. Petersburg, Florida, Court of Federal Claims No: 25-0653V

48. Mark Chandler, Williston Park, New York, Court of Federal Claims No: 25-0654V

49. Kelsey Harmer-Moultrie, Lagrange, Georgia, Court of Federal Claims No: 25-0655V

50. Darryl Ayers, Alexandria, Virginia, Court of Federal Claims No: 25-0656V

51. Steven Sorensen, Black River Falls, Wisconsin, Court of Federal Claims No: 25-0657V

52. Paula Bigelow on behalf of Estate of Ruth A. Jones, Deceased, Flint, Michigan, Court of Federal Claims No: 25-0658V

53. Sigrid Alexandrescu, Baton Rouge, Louisiana, Court of Federal Claims No: 25-0662V

54. Lauren Elizabeth Newton on behalf of L. W. N., Meridian, Idaho, Court of Federal Claims No: 25-0664V

55. Sylvia Richardson, San Francisco, California, Court of Federal Claims No: 25-0665V

56. Julia McDaniel, Orlando, Florida, Court of Federal Claims No: 25-0666V

57. Paige Sutton on behalf of C. S., Clarksville, Tennessee, Court of Federal Claims No: 25-0668V

58. Donna Cellini, Rochester, New York, Court of Federal Claims No: 25-0671V

59. Christine Brown on behalf of Verdell Brown, Jr., Rosharon, Texas, Court of Federal Claims No: 25-0672V

60. Shayne A. Longley, Black River Falls, Wisconsin, Court of Federal Claims No: 25-0673V

61. Sean T. Benson, Waupun, Wisconsin, Court of Federal Claims No: 25-0674V

62. Christine O'Neill on behalf of J. O., Seattle, Washington, Court of Federal Claims No: 25-0675V

63. Lamon D. Davis, Jr., Boscobel, Wisconsin, Court of Federal Claims No: 25-0676V

64. Guzal Astanova on behalf of A. R., Philadelphia, Pennsylvania, Court of Federal Claims No: 25-0677V

65. Julianne Carlin, Chicago, Illinois, Court of Federal Claims No: 25-0678V

66. Jerome Sheets, La Crosse, Wisconsin, Court of Federal Claims No: 25-0679V

67. Diana Wall, Riverside, California, Court of Federal Claims No: 25-0681V

68. William Wilkinson, Corpus Christi, Texas, Court of Federal Claims No: 25-0683V

69. Christina Conroy, Johnson City, New York, Court of Federal Claims No: 25-0688V

70. Dentral Naylor, Black River Falls, Wisconsin, Court of Federal Claims No: 25-0689V

71. Rainer Von Falkenhorst, Houston, Texas, Court of Federal Claims No: 25-0692V

72. Debra Kauffman, North Albany, Oregon, Court of Federal Claims No: 25-0694V

73. Sandra Partida, New York, New York, Court of Federal Claims No: 25-0698V

74. Sharon Matzek, Fairhaven, Massachusetts, Court of Federal Claims No: 25-0699V

75. Joshua Grail, Washington, DC, Court of Federal Claims No: 25-0701V

76. Heather McKinnon, Colorado Springs, Colorado, Court of Federal Claims No: 25-0702V

77. Candez Stoerkel, Houston, Texas, Court of Federal Claims No: 25-0703V

78. Ramona Ruiz, St. Petersburg, Florida, Court of Federal Claims No: 25-0704V

79. Nathaniel Allan Flowers, Phoenix, Arizona, Court of Federal Claims No: 25-0705V

80. Christy L. Owens, Rochester, New York, Court of Federal Claims No: 25-0706V

81. Alison Marshall, Sturgis, Michigan, Court of Federal Claims No: 25-0707V

82. Philip Graham, Walpole, Massachusetts, Court of Federal Claims No: 25-0709V

83. Elizabeth McKeon, Okemos, Michigan, Court of Federal Claims No: 25-0712V

84. Shawn Joseph Van Cleave, College Station, Texas, Court of Federal Claims No: 25-0715V

85. Christopher Heideman, Valley Center, California, Court of Federal Claims No: 25-0716V

86. Kristi Keesey, Chicago, Illinois, Court of Federal Claims No: 25-0718V

87. Renae Miller, Mandan, North Dakota, Court of Federal Claims No: 25-0719V

88. William R. Shoop, II, Wauseon, Ohio, Court of Federal Claims No: 25-0720V

89. Vidal Mason, Oshkosh, Wisconsin, Court of Federal Claims No: 25-0721V

90. Amar Ally, Kissimmee, Florida, Court of Federal Claims No: 25-0723V

91. Emily Gan, New York, New York, Court of Federal Claims No: 25-0724V

92. Sherri Lilly, Naperville, Illinois, Court of Federal Claims No: 25-0726V

93. Tenzin Lhamo, Minneapolis, Minnesota, Court of Federal Claims No: 25-0729V

94. Jorge Mendoza, Houston, Texas, Court of Federal Claims No: 25-0730V

95. Xiao Yang, Kirkland, Washington, Court of Federal Claims No: 25-0731V

96. Ellen Babcock, Albuquerque, New Mexico, Court of Federal Claims No: 25-0733V

97. Mollie Roe, Camden, South Carolina, Court of Federal Claims No: 25-0738V

98. Daniel Montemayor, Boscobel, Wisconsin, Court of Federal Claims No: 25-0739V

99. Kent Busch, Punta Gorda, Florida, Court of Federal Claims No: 25-0741V

100. Malika Pulatova, New York, New York, Court of Federal Claims No: 25-0743V

101. Xavier Young, Fox Lake, Wisconsin, Court of Federal Claims No: 25-0744V

102. Michael Crump, Louisville, Kentucky, Court of Federal Claims No: 25-0747V

103. Mark Gibson, Jackson, California, Court of Federal Claims No: 25-0748V

104. Dawn Peer, Lexington, South Carolina, Court of Federal Claims No: 25-0749V

105. Samantha Kincheloe, Fairbanks, Alaska, Court of Federal Claims No: 25-0750V

[FR Doc. 2025-09295 Filed 5-22-25; 8:45 am]

BILLING CODE 4165-15-P